DEPARTMENT OF ENERGY

Federal Energy Regulatory Commission

Combined Notice of Filings

November 24, 2009.

Take notice that the Commission has received the following Natural Gas Pipeline Rate and Refund Report filings:

Docket Numbers: RP10-162-000.

Applicants: Tennessee Gas Pipeline Company.

Description: 2009 Cash-out Report of Tennessee Gas Pipeline Company.

Filed Date: 11/20/2009.

Accession Number: 20091120-5077.

Comment Date: 5 p.m. Eastern Time on Wednesday, December 02, 2009.

Docket Numbers: RP10-163-000.

Applicants: Cheyenne Plains Gas Pipeline Company LLC.

Description: Cheyenne Plains Gas Pipeline Company, LLC submits Twelfth Revised Sheet No 1 to FERC Gas Tariff, Original Volume No 1, to be effective 12/21/09.

Filed Date: 11/20/2009.

Accession Number: 20091123-0165.

Comment Date: 5 p.m. Eastern Time on Wednesday, December 02, 2009.

Docket Numbers: RP10-164-000.

Applicants: Mojave Pipeline Company.

Description: Mojave Pipeline Company submits Twenty-Eighth Revised Sheet No 11 et al. FERC Gas Tariff, Second Revised Volume No 1.

Filed Date: 11/20/2009.

Accession Number: 20091123-0166.

Comment Date: 5 p.m. Eastern Time on Wednesday, December 02, 2009.

Docket Numbers: RP10-165-000.

Applicants: Questar Pipeline Company.

Description: Questar Pipeline Company submits Forty-Ninth Revised Sheet 5 to First Revised Volume 1 of its FERC Gas Tariff.

Filed Date: 11/19/2009.

Accession Number: 20091123-0080.

Comment Date: 5 p.m. Eastern Time on Tuesday, December 01, 2009.

Docket Numbers: RP10-166-000.

Applicants: Colorado Interstate Gas Company.

Description: Colorado Interstate Gas Company submits Fourth Revised Sheet No 380J to FERC Gas Tariff, First Revised Volume No 1, to be effective 11/17/09.

Filed Date: 11/19/2009.

Accession Number: 20091123-0167.

Comment Date: 5 p.m. Eastern Time on Tuesday, December 01, 2009.

Docket Numbers: RP10-167-000.

Applicants: Transcontinental Gas Pipe Line Company, LLC.

Description: Transcontinental Gas Pipe Line Company, LLC submits Fifth Revised Sheet No 24 to FERC Gas Tariff, Fourth Revised Volume No 1, to be effective 12/1/09.

Filed Date: 11/20/2009.

Accession Number: 20091123-0170.

Comment Date: 5 p.m. Eastern Time on Wednesday, December 02, 2009.

Docket Numbers: RP10-168-000.

Applicants: Northern Natural Gas Company.

Description: Northern Natural Gas Company submits Third Revised Sheet No 66B.35 to FERC Gas Tariff, Fifth Revised Volume No 1, to be effective 11/19/09.

Filed Date: 11/20/2009.

Accession Number: 20091123-0169.

Comment Date: 5 p.m. Eastern Time on Wednesday, December 02, 2009.

Docket Numbers: RP10-169-000.

Applicants: Transcontinental Gas Pipe Line Company.

Description: Transcontinental Gas Pipe Line Company, LLC submits Attachment 1 et al. with regards to the penalty sharing report.

Filed Date: 11/19/2009.

Accession Number: 20091123-0163.

Comment Date: 5 p.m. Eastern Time on Tuesday, December 01, 2009.

Docket Numbers: RP10-170-000.

Applicants: Dominion Transmission, Inc.

Description: Dominion Transmission Inc submits Fourth Revised Sheet No 17 et al. to FERC Gas Tariff, Second Revised Volume No 1A, to be effective 12/21/09.

Filed Date: 11/20/2009.

Accession Number: 20091123-0164.

Comment Date: 5 p.m. Eastern Time on Wednesday, December 02, 2009.

Docket Numbers: RP10-171-000.

Applicants: Southern Star Central Gas Pipeline, Inc.

Description: Southern Star Central Gas Pipeline, Inc. Annual Cash-Out Refund Report.

Filed Date: 11/23/2009.

Accession Number: 20091123-5077.

Comment Date: 5 p.m. Eastern Time on Monday, December 07, 2009.

Docket Numbers: RP10-172-000.

Applicants: Chandeleur Pipe Line Company.

Description: Chandeleur Pipe Line Company submits Fuel and Line Loss Allowance Calculation to support the continuation of its current Fuel and Line Loss Allowance.

Filed Date: 11/23/2009.

Accession Number: 20091124-0091.

Comment Date: 5 p.m. Eastern Time on Monday, December 07, 2009.

Docket Numbers: RP10-173-000.

Applicants: Southern LNG Inc.

Description: Southern LNG Inc. submits Petition for Declaratory Order.

Filed Date: 11/23/2009.

Accession Number: 20091124-0108.

Comment Date: 5 p.m. Eastern Time on Monday, December 07, 2009.

Docket Numbers: CP10-15-000.

Applicants: Heartland Gas Pipeline LLC.

Description: Application for pipeline certificate of Heartland Gas Pipeline LLC.

Filed: 11/4/2009.

Accession Number: 20091105-5014.

Comment Date: 5 p.m. Eastern Time on Monday, December 07, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-29088 Filed 12-4-09; 8:45 am]

BILLING CODE 6717-01-P